DEPARTMENT OF JUSTICE

Notice of Lodging of Consent Decree

Notice is hereby given that on August 26, 2010, an electronic version of a proposed Consent Decree was lodged in the United States District Court for the Southern District of Georgia in United States v. Tronox Pigments (Savannah), Inc., No. 408-259. The Consent Decree settles the United States' claims against Tronox Pigments (Savannah), Inc. (“Tronox Pigments”) for civil penalties and injunctive relief based on violations of the Clean Air Act, 42 U.S.C. 7401 et seq. (“CAA”) and implementing regulations, as well as a permit issued to Tronox Pigments by the State of Georgia pursuant to a State Implementation Plan (“Georgia SIP”) approved by EPA pursuant to the CAA and a permit issued to Tronox Pigments under Title V of the CAA, 42 U.S.C. 7661-7661f (“CAA”) and Georgia's Title V regulations; violations of the Resource Conservation and Recovery Act (“RCRA”), 42 U.S.C. 6901 et seq. and implementing regulations; violations of the Clean Water Act (“CWA”), 33 U.S.C. 1251 et seq. and implementing regulations; and a violation of Section 103(a) of the Comprehensive Environmental Response, Compensation, and Liability Act of 1980, as amended, (“CERCLA”), 42 U.S.C. 9603(a) and implementing regulations.

Under the terms of the proposed Consent Decree, Tronox Pigments will, among other things, apply for an amended Title V permit to include the air emissions limits contained in the consent decree upon any resumption of titanium dioxide production at the Savannah facility. The consent decree requires Tronox to continue performing a RCRA investigation and cleanup under State supervision, including addressing the new areas of noncompliance identified by EPA. For CWA compliance, Tronox Pigments will complete the excavation of the ditch system. Tronox Pigments and its affiliates have filed for bankruptcy protection under Chapter 11 of the Bankruptcy Code, and under the consent decree a civil penalty of $4.2 million will be treated as an allowed claim. The consent decree resolves the litigation filed in the Southern District of Georgia.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. Tronox Pigments (Savannah), Inc., No. 408-259 and DOJ No. 90-5-2-1-09052.

The Consent Decree may be examined at the Office of the United States Attorney for the Southern District of Georgia, 100 Bull Street, 2nd Floor, Savannah, Georgia 31401. During the public comment period, the Consent Decree may also be examined on the following Department of Justice: http://www.usdoj.gov/enrd/Consent_Decrees.html. A copy of the Consent Decree may also be obtained by mail from the Consent Decree Library, P.O. Box 7611, U.S. Department of Justice, Washington, DC 20044-7611, or by faxing or e-mailing a request to Tonia Fleetwood, tonia.fleetwood@usdoj.gov, Fax No. (202) 514-0097, phone confirmation number (202) 514-1547. In requesting a copy from the Consent Decree Library, please enclose a check in the amount of $11.50 (25 cents per page reproduction cost) payable to the U.S. Treasury.

Maureen Katz,
Assistant Section Chief, Environmental Enforcement Section, Environment and Natural Resources Division.

[FR Doc. 2010-23604 Filed 9-21-10; 8:45 am]

BILLING CODE 4410-15-P